DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Service Annual Survey (SAS).

OMB Control Number: 0607-0422.

Form Number(s): There are 162 individual collection instruments in the SAS, each having its own form number.

Type of Request: Revision of a currently approved collection.

Number of Respondents: 82,240.

Average Hours per Response: 3.73063 hours.

Burden Hours: 306,807.

Needs and Uses: Over 50 percent of all economic activity is accounted for by “services” defined to exclude retail and wholesale trade. The U.S. Census Bureau currently measures the total output of most of these service industries annually in the Service Annual Survey (SAS). This survey currently covers all or some of: Utilities; Transportation and Warehousing; Information; Finance and Insurance; Real Estate and Rental and Leasing; Professional, Scientific, and Technical Services; Administration and Support and Waste Management and Remediation Services; Educational Services; Health Care and Social Assistance; Arts, Entertainment, and Recreation; and Other Services as defined by the North American Industry Classification System (NAICS). Beginning with survey year 2016, which will be mailed in January 2017, Accommodation and Food Services will also be collected as part of the SAS. Previously the accommodation and food services industry was collected as part of the Annual Retail Trade Survey (ARTS), OMB number 0607-0013. The reason is that under the NAICS structure, the Accommodation and Food Services sector is classified under services rather than retail.

Estimates from the SAS are essential to a better understanding and higher quality estimates of economic growth, real output, prices, and productivity for our nation's economy. A broad spectrum of government and private stakeholders use these estimates in analyzing business and economic sectors; developing statistics on services; forecasting economic growth; and compiling data on productivity, prices, and the gross domestic product (GDP). In addition, trade and professional organizations use these estimates to analyze industry trends, benchmark their own statistical programs, and develop forecasts. Private businesses use these estimates to measure market share, analyze business potential, and plan investments. Comprehensive, comparative annual data on the services sector are not available from any other source.

Annual Services Report is the collection instrument for the SAS. The key inquiries for the SAS are total revenue, total expenses, and general expense detail items. For some sectors, we also collect revenue detail items that are specific to a particular industry. The availability of these data greatly improves the quality of the intermediate-inputs and value-added estimates in BEA's annual input-output and GDP by industry accounts.

A new sample will be introduced with the 2016 SAS survey year. In order to link estimates from the new and prior samples, we will be asking companies to provide data for 2016 and 2015. The 2017 SAS and subsequent years will request one year of data until a new sample is once again introduced.

The estimates produced in the SAS are critical to the accurate measurement of total economic activity.

• The Bureau of Economic Analysis (BEA), the primary Federal user, uses the estimates to develop the national income and product accounts, compile benchmark and annual input-output tables, and compute GDP by industry.

• The Bureau of Labor Statistics (BLS) uses the estimates as inputs to its Producer Price Indexes and in developing productivity measurements.

• The Centers for Medicare and Medicaid Services (CMS) use the estimates for program planning and development of the National Health Expenditure Accounts.

• The Federal Communications Commission (FCC) uses the estimates to assess the impact of regulatory policies.

• International agencies use the estimates to compare total domestic output to changing international activity.

• Private industry also uses the estimates as a tool for marketing analysis.

Affected Public: Business or other for-profit, Not-for-profit institutions, Federal Government.

Frequency: Annually.

Respondent's Obligation: Mandatory.

Legal Authority: Title 13, United States Code, Sections 131 and 182 authorize the collection. Sections 224 and 225 make reporting mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Lead, Office of the Chief Information Officer.

[FR Doc. 2015-24214 Filed 9-23-15; 8:45 am]

BILLING CODE 3510-07-P